DEPARTMENT OF THE INTERIOR

Fish and Wildlife Service

[Docket No. FWS-R8-ES-2024-0020; FXES11140800000]

Endangered and Threatened Species; Receipt of an Incidental Take Permit Application and Proposed Habitat Conservation Plan; City of Colton, San Bernardino County, CA; Categorical Exclusion

AGENCY: Fish and Wildlife Service, Interior.

ACTION: Notice of availability; request for comments.

SUMMARY: We, the U.S. Fish and Wildlife Service (Service), have received an application for an incidental take permit to take the federally listed Santa Ana sucker under the Endangered Species Act (ESA). We request public comment on the application, which includes the applicant's proposed habitat conservation plan (HCP), and the Service's preliminary determination that the proposed permitting action may be eligible for a categorical exclusion pursuant to the Council on Environmental Quality's National Environmental Policy Act (NEPA) regulations, the Department of the Interior's (DOI) NEPA regulations, and the DOI Departmental Manual. To make this preliminary determination, we prepared a draft environmental action statement and low-effect screening form, both of which are also available for public review. We invite comment from the public and local, State, Tribal, and Federal agencies.

DATES: We must receive your written comments on or before April 29, 2024.

ADDRESSES:

Obtaining Documents: You may obtain copies of the documents this notice announces, along with public comments received, online in Docket No. FWS-R8-ES-2024-0020 at https://www.regulations.gov.

Submitting Comments: If you wish to submit comments, you may do so in writing by one of the following methods:

• Online: https://www.regulations.gov. Follow the instructions for submitting comments on Docket No. FWS-R8-ES-2024-0020.

• U.S. mail: Public Comments Processing, Attn: Docket No. FWS-R8-ES-2024-0020; U.S. Fish and Wildlife Service, MS: PRB/3W; 5275 Leesburg Pike; Falls Church, VA 22041-3803.

FOR FURTHER INFORMATION CONTACT: Ms. Karin Cleary-Rose, Division Supervisor, Carlsbad Fish and Wildlife Office, 760-322-2070. Individuals in the United States who are deaf, blind, hard of hearing, or have a speech disability may dial 711 (TTY, TTD, or TeleBraille) to access telecommunications relay services. Individuals outside the United States should use the relay services offered within their country to make international calls to the point-of-contact in the United States.

SUPPLEMENTARY INFORMATION: We, the U.S. Fish and Wildlife Service, received an application from the Colton/San Bernardino Regional Tertiary Treatment and Water Reclamation Authority and San Bernardino Municipal Water Department (applicants) for an incidental take permit under the Endangered Species Act of 1973, as amended (ESA; 16 U.S.C. 1531 et seq). The requested permit would authorize take of the federally threatened Santa Ana sucker (Catostomus santaanae) incidental to the ongoing operation of the rapid infiltration and extraction (RIX) facility along approximately 2 miles of the Santa Ana River, in the city of Colton, San Bernardino County, California.

We request public comment on the application, which includes the applicant's proposed habitat conservation plan (HCP), and on the Service's preliminary determination that this proposed ITP qualifies as low effect, and may qualify for a categorical exclusion pursuant to the Council on Environmental Quality's National Environmental Policy Act (NEPA) regulations (40 CFR 1501.4), the Department of the Interior's (DOI) NEPA regulations (43 CFR 46), and the DOI's Departmental Manual (516 DM 8.5(C)(2)). To make this preliminary determination, we prepared a draft environmental action statement and low-effect screening form, both of which are also available for public review.

Proposed Project

The project area is located along an approximately 2-mile stretch of the Santa Ana River in the City of Colton in San Bernardino County, California. The applicants request a 50-year incidental take permit for temporary impacts to approximately 2 miles of river occupied by Santa Ana sucker. The RIX facility supplies tertiary treated water to this stretch of the river and contributes to the functional quality of Santa Ana sucker habitat in the affected reach of the river. The applicants propose to avoid, minimize, and mitigate the impacts of RIX facility shutdowns on the 2-mile stretch of river by using supplemental groundwater wells that can supply up to 16 cubic feet per second of replacement water, coordinating with partners to monitor fish during shutdowns, and monitoring effects by conducting studies to assess the impact of the facility operations on Santa Ana sucker populations in this stretch of the river.

Our Preliminary Determination

The Service has made a preliminary determination that the project, including continued operation and maintenance of the RIX facility and the proposed mitigation, would individually and cumulatively have a minor effect on the Santa Ana sucker and the human environment. Therefore, we have preliminarily determined that the proposed ESA section 10(a)(1)(B) permit would be a low-effect ITP that individually or cumulatively would have a minor effect on the Santa Ana sucker and may qualify for application of a categorical exclusion pursuant to the Council on Environmental Quality's NEPA regulations, DOI's NEPA regulations, and the DOI Departmental Manual.

A low-effect ITP is one that would result in:

• Minor nonsignificant effects on species covered in the HCP;

• Nonsignificant effects on the human environment; and

• Impacts that, when added together with the impacts of other past, present, and reasonable foreseeable actions, would not result in significant cumulative effects to the human environment.

Next Steps

We will evaluate the proposed application and any comments received to determine whether to issue the requested permit. We will also conduct an intra-Service consultation pursuant to section 7(a)(2) of the ESA to evaluate the effects of the proposed take. After considering the preceding and other matters, we will determine whether the permit issuance criteria of section 10(a)(1)(B) of the ESA have been met. If met, we will issue the permit to the applicants for incidental take of the Santa Ana sucker.

Public Availability of Comments

Before including your address, phone number, email address, or other personal identifying information in your comment, you should be aware that your entire comment, including your personal identifying information, may be made publicly available to the public. While you may request that we withhold your personal identifying information, we cannot guarantee that we will be able to do so.

Authority

The Service provides this notice under section 10(c) of the Endangered Species Act (16 U.S.C. 1531 et seq.) and its implementing regulations (50 CFR 17.32) and the National Environmental Policy Act (42 U.S.C. 4321 et seq.) and its implementing regulations (40 CFR 1500-1508 and 43 CFR 46).

Scott Sobiech,
Field Supervisor, Carlsbad Fish and Wildlife Office, Carlsbad, California.

[FR Doc. 2024-06617 Filed 3-27-24; 8:45 am]

BILLING CODE 4333-15-P